DEPARTMENT OF HEALTH AND HUMAN SERVICES

Centers for Disease Control and Prevention

Disease, Disability, and Injury Prevention and Control Special Emphasis Panel (SEP)—CE23-008, Research Grants To Develop and Validate a Prognostic Tool of Mental Health Sequelae After Traumatic Brain Injury for Adolescent Patients (U01); Amended Notice of Closed Meeting

Notice is hereby given of a change in the meeting of the Disease, Disability, and Injury Prevention and Control Special Emphasis Panel (SEP)—CE23-008, Research Grants to Develop and Validate a Prognostic Tool of Mental Health Sequelae After Traumatic Brain Injury for Adolescent Patients (U01), March 14, 2023, 8:30 a.m., EDT-5:30 p.m., EDT, Web Conference, in the original FRN. The meeting was published in the Federal Register on January 20, 2023, Volume 88, Number 13, page/s/ 3743.

The meeting is being amended to begin the meeting later and should read as follows:

Date: March 14, 2023.

Time: 10:00 a.m.-6:00 p.m. (EDT).

Place: Videoconference.

The meeting is closed to the public.

FOR FURTHER INFORMATION CONTACT: Carlisha Gentles, PharmD, BCPS, CDCES, Scientific Review Officer, National Center for Injury Prevention and Control, CDC, 4770 Buford Highway NE, Mailstop F-63, Atlanta, Georgia 30341, Telephone: (770)488-1504; Email: CGentles@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-04696 Filed 3-7-23; 8:45 am]

BILLING CODE 4163-18-P